DEPARTMENT OF AGRICULTURE

U.S. Codex Office

Codex Alimentarius Commission: Meeting of the Codex Alimentarius Commission

AGENCY: U.S. Codex Office, USDA.

ACTION: Notice of public meeting and request for comments.

SUMMARY: The U.S Codex Office is sponsoring a public meeting on October 21, 2021. The objective of the public meeting is to provide information and receive public comments on agenda items and draft United States (U.S.) positions for the 44th Session of the of the Codex Alimentarius Commission (CAC). The CAC will not be meeting physically due to the continued COVID-19 pandemic. The U.S. Manager for Codex Alimentarius and the Acting Deputy Under Secretary for Trade and Foreign Agricultural Affairs recognize the importance of providing interested parties the opportunity to obtain background information on the 44th Session of the CAC and to address items on the agenda.

DATES: The public meeting is scheduled for October 21, 2021, from 1:00-4:00 p.m. ET.

ADDRESSES: If you wish to participate in the public meeting for the 44th Session of the CAC, the meeting will be conducted by teleconference only to be consistent with public health guidance related to outbreaks of novel coronavirus (COVID-19). Documents related to the 44th Session of the CAC will be accessible via the internet at the following address: http://www.fao.org/fao-who-codexalimentarius/meetings/detail/en/?meeting=CAC&session=44 Mary Frances Lowe, U.S. Delegate to the 44th Session of the CAC, invites U.S. interested parties to submit their comments electronically to the following email address: uscodex@usda.gov.

Registration: Participants should register to participate in the public meeting at the following link: https://www.zoomgov.com/meeting/register/vJIsc-GsqDotGb4l3ySJrLPQpRdHvb6jLuM.

For further information about the 44th Session of the CAC or the public meeting, please contact the U.S. Codex Office, 1400 Independence Avenue SW, Room 4861, South Agriculture Building, Washington, DC 20250, Telephone:(202) 205-7760, Fax: (202) 720-3157, Email: uscodex@usda.gov.

SUPPLEMENTARY INFORMATION:

Background

The Codex Alimentarius was established in 1963 by two United Nations organizations, the Food and Agriculture Organization and the World Health Organization. Through adoption of food standards, codes of practice, and other guidelines developed by its committees, and by promoting their adoption and implementation by governments, Codex seeks to protect the health of consumers and ensure fair practices in the food trade; promotes coordination of all food standards work undertaken by international governmental and nongovernmental organizations; determines priorities, initiates, and guides the preparation of draft standards; finalizes the standards elaborated and publishes them in a Codex Alimentarius (food code) either as regional or worldwide standards, wherever this is practicable; and amends published standards, as appropriate, in the light of new developments.

Issues To Be Discussed at the Public Meeting

The following items on the Agenda for the 44th Session of the CAC will be discussed during the public meeting:

• Report by the Chairperson on the 80th and 81st Sessions of the Executive Committee (including matters referred)

• Amendments to the Procedural Manual

• Work of Codex Committees and Task Forces (adoption, new work, revocation, discontinuation, and editorial amendments to Codex texts proposed by the following committees and task force)

○ Codex Committee on Spices and Culinary Herbs

○ Codex Committee on Contaminants in Foods

○ Codex Committee on Methods of Analysis and Sampling

○ Codex Committee on Food Import and Export Inspection and Certification Systems

○ Codex Committee on Residues of Veterinary Drugs in Foods

○ Codex Committee on Pesticide Residues

○ Codex Committee on Food Additives

○ Codex Committee on Food Labelling

○ Ad hoc Codex Intergovernmental Task Force on Antimicrobial Resistance

• Editorial amendments to Codex texts proposed by the Codex Secretariat

• Matters arising from Codex Subsidiary Bodies

• Codex Budgetary and Financial Matters

• Matters arising from FAO and WHO

○ New food sources and production systems: need for Codex attention and guidance?

○ New FAO Food Safety Strategy 2022-2031—update of status

○ WHO Global Strategy for Food Safety 2022-2030—Update of the status

○ Codex Trust Fund: lessons learned from the COVID-19 pandemic

• Election of the Chairperson and Vice-Chairpersons and Members of the Executive Committee elected on a Geographical Basis

• Designation of Countries responsible for appointing the Chairpersons of Codex Subsidiary Bodies

Relevant documents are or will be available at: http://www.fao.org/fao-who-codexalimentarius/meetings/detail/en/?meeting=CAC&session=44.

Each issue listed will be fully described in documents distributed, or to be distributed, by the Codex Secretariat before the CAC session. Members of the public may access or request copies of these documents (see ADDRESSES).

Public Meeting

At the October 21, 2021, public meeting, draft U.S. positions on the anticipated agenda items will be described and discussed, and attendees will have the opportunity to pose questions and offer comments. Written comments may be offered at the meeting or sent to the U.S. Delegate for the 44th Session of the CAC (see ADDRESSES). Written comments should state that they relate to activities of the 44th Session of the CAC.

Additional Public Notification

Public awareness of all segments of rulemaking and policy development is important. Consequently, the U.S. Codex Office will announce this Federal Register publication on-line through the USDA web page located at: https://www.usda.gov/codex that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC.
Mary Frances Lowe,
U.S. Manager for Codex Alimentarius.

[FR Doc. 2021-21120 Filed 9-28-21; 8:45 am]

BILLING CODE P